DEPARTMENT OF TRANSPORTATION

National Highway Traffic Safety Administration

Petition for Exemption From the Vehicle Theft Prevention Standard; Ford Motor Company

AGENCY: National Highway Traffic Safety Administration (NHTSA), Department of Transportation (DOT).

ACTION: Grant of petition for exemption.

SUMMARY: This document grants in full the Ford Motor Company's (Ford) petition for an exemption of the C-MAX vehicle line in accordance with § 543.9(c)(2) of 49 CFR part 543, Exemption from the Theft Prevention Standard. This petition is granted because the agency has determined that the antitheft device to be placed on the line as standard equipment is likely to be as effective in reducing and deterring motor vehicle theft as compliance with the parts-marking requirements of the Theft Prevention Standard (49 CFR part 541). Ford requested confidential treatment for an attachment it submitted in support of its petition. The agency has addressed Ford's request for confidential treatment by letter dated March 1, 2011.

DATES: The exemption granted by this notice is effective beginning with the 2013 model year.

FOR FURTHER INFORMATION CONTACT: Ms. Carlita Ballard, Office of International Policy, Fuel Economy and Consumer Programs, NHTSA, 1200 New Jersey Avenue, SE., Washington, DC 20590. Ms. Ballard's telephone number is (202) 366-5222. Her fax number is (202) 493-2990.

SUPPLEMENTARY INFORMATION: In a petition dated January 25, 2011, Ford requested an exemption from the parts-marking requirements of the Theft Prevention Standard (49 CFR part 541) for the MY 2013 Ford C-MAX vehicle line. The petition requested an exemption from parts-marking pursuant to 49 CFR part 543, Exemption from Vehicle Theft Prevention Standard, based on the installation of an antitheft device as standard equipment for an entire vehicle line.

Under § 543.5(a), a manufacturer may petition NHTSA to grant exemptions for one vehicle line per model year. In its petition, Ford provided a detailed description and diagram of the identity, design, and location of the components of the antitheft device for the C-MAX vehicle line. Ford will install its Passive Antitheft Electronic Immobilizer System (PATS) on the 2013 C-MAX as standard equipment. Ford stated that it will also offer its Intelligent Access with Push Button Start (IAwPB) antitheft device as optional equipment. Ford stated that both systems are passive, electronic immobilizer devices that use encrypted transponder technology with 28 trillion different possible electronic key codes for the PATS system and 400 million different possible electronic key codes for the IAwPB system. Key components of the PATS antitheft device will include an electronic transponder key, transceiver module, ignition lock, and a passive immobilizer. Key components of the IAwPB device is an electronic keyfob, remote function actuator, body control module, power train control module and a passive immobilizer. Ford stated that its MY 2013 C-MAX vehicle line will also be equipped with several other standard antitheft features common to Ford vehicles, (i.e., counterfeit resistant VIN labels; secondary VINs, hood release inside vehicle, and cabin accessibility through the use of a valid key fob or keycode). Ford further stated that its C-MAX vehicles will also be available with an optional perimeter alarm system. The perimeter alarm system will utilize both an audible and visible alarm if unauthorized access is attempted. Ford's submission is considered a complete petition as required by 49 CFR 543.7, in that it meets the general requirements contained in § 543.5 and the specific content requirements of § 543.6.

Ford stated that the devices integration of the transponder into the normal operation of the ignition key assures activation of the system. Ford further stated that both devices are always active and require no other operator action. Specifically, in the PATS device, when the ignition key is turned to the “start” position, the transceiver module reads the ignition key code and transmits an encrypted message from the keycode to the control module, which then determines key validity and authorizes engine starting by sending a separate encrypted message to the powertrain control module (PCM). In the IAwPB device, when the “startstop” button is pressed, the transceiver module reads the key code and transmits an encrypted message from the keycode to the control module to determine validity and authorizes engine starting by sending a separate encrypted message to the body control module, the PEP/RFA module and the PCM. Ford pointed out that in addition to the programmed key, the three modules that must be matched to start the vehicle adds even an additional level of security to the IAwPB device. In both devices, if the codes do not match, the vehicle will be inoperable.

In addressing the specific content requirements of 543.6, Ford provided information on the reliability and durability of its proposed device. To ensure reliability and durability of the device, Ford conducted tests based on its own specified standards. Ford provided a detailed list of the tests conducted and believes that the device is reliable and durable since the device complied with its specified requirements for each test.

Ford compared the device proposed for its vehicle line with other devices which NHTSA has determined to be as effective in reducing and deterring motor vehicle theft as would compliance with the parts-marking requirements. Ford stated that it believes that the standard installation of either the PATS device or the IAwPB device would be an effective deterrent against vehicle theft.

Ford stated that it installed the PATS device on all MY 1996 Ford Mustang GT and Cobra models as standard equipment. Ford also stated that the PATS device was extended to the complete Ford Mustang vehicle line as standard equipment in MY 1997. Ford also stated that according to the National Insurance Crime Bureau (NICB) theft statistics, MY 1997 Mustangs installed with the PATS device showed a 70% reduction in theft rate when compared to MY 1995 Mustangs. Ford also stated that the PATS device is currently offered as standard equipment on most of its North American Ford, Lincoln and Mercury vehicles but is offered as optional equipment on its F-series Super Duty pickups, Econoline and Transit Connect vehicle. Ford stated that beginning with MY 2011, the IAwPB device will also be offered as standard equipment on the Lincoln MKT and optionally on the Lincoln MKS, MKX, Ford Taurus, Edge, Explorer, Focus and Fiesta vehicles.

Ford referenced the agency's published theft rate data for the Volvo S60 for comparison purposes because it stated that the Ford C-MAX is a new vehicle and would utilize the PATS and IAwPB systems that would be similar to the Volvo S60 in design and architecture. Ford stated that the Volvo S60's theft rate is lower than the vehicle theft rate for all vehicles in four of the last five calendar years for which published data is available. Specifically, the agency's data show that theft rates for the Volvo S60 for MYs 2006-2008 are 1.3803, 0.6907 and 2.3543 respectively. Using an average of 3 MYs data (2006-2008), the theft rate for the Volvo S60 vehicle line is well below the median at 1.4751. Ford stated that since either the PATS device or the IAwPB device are the primary theft devices on Ford C-MAX vehicles, it believes that theft rates similar to Volvo S60 are likely to continue or improve in the future.

The agency agrees that the device is substantially similar to devices in other vehicle lines for which the agency has already granted exemptions. Based on the evidence submitted by Ford, the agency believes that the antitheft device for the C-MAX vehicle line is likely to be as effective in reducing and deterring motor vehicle theft as compliance with the parts-marking requirements of the Theft Prevention Standard (49 CFR part 541).

Pursuant to 49 U.S.C. 33106 and 49 CFR 543.7 (b), the agency grants a petition for exemption from the parts-marking requirements of Part 541 either in whole or in part, if it determines that, based upon substantial evidence, the standard equipment antitheft device is likely to be as effective in reducing and deterring motor vehicle theft as compliance with the parts-marking requirements of part 541. The agency finds that Ford has provided adequate reasons for its belief that the antitheft device for the Ford C-MAX vehicle line is likely to be as effective in reducing and deterring motor vehicle theft as compliance with the parts-marking requirements of the Theft Prevention Standard (49 CFR part 541). This conclusion is based on the information Ford provided about its device.

The agency concludes that the device will provide four of the five types of performance listed in § 543.6(a)(3): Promoting activation; preventing defeat or circumvention of the device by unauthorized persons; preventing operation of the vehicle by unauthorized entrants; and ensuring the reliability and durability of the device.

For the foregoing reasons, the agency hereby grants in full Ford's petition for exemption for the C-MAX vehicle line from the parts-marking requirements of 49 CFR part 541. The agency notes that 49 CFR part 541, appendix A-1, identifies those lines that are exempted from the Theft Prevention Standard for a given model year. 49 CFR 543.7(f) contains publication requirements incident to the disposition of all part 543 petitions. Advanced listing, including the release of future product nameplates, the beginning model year for which the petition is granted and a general description of the antitheft device is necessary in order to notify law enforcement agencies of new vehicle lines exempted from the parts-marking requirements of the Theft Prevention Standard.

If Ford decides not to use the exemption for this line, it must formally notify the agency. If such a decision is made, the line must be fully marked according to the requirements under 49 CFR 541.5 and 541.6 (marking of major component parts and replacement parts).

NHTSA notes that if Ford wishes in the future to modify the device on which this exemption is based, the company may have to submit a petition to modify the exemption. Section 543.7(d) states that a part 543 exemption applies only to vehicles that belong to a line exempted under this part and equipped with the antitheft device on which the line's exemption is based. Further, § 543.9(c)(2) provides for the submission of petitions “to modify an exemption to permit the use of an antitheft device similar to but differing from the one specified in that exemption.”

The agency wishes to minimize the administrative burden that Part 543.9(c)(2) could place on exempted vehicle manufacturers and itself. The agency did not intend in drafting part 543 to require the submission of a modification petition for every change to the components or design of an antitheft device. The significance of many such changes could be de minimis. Therefore, NHTSA suggests that if the manufacturer contemplates making any changes, the effects of which might be characterized as de minimis, it should consult the agency before preparing and submitting a petition to modify.

Authority: 49 U.S.C. 33106; delegation of authority at 49 CFR 1.50.

Issued on: March 17, 2011.
Joseph S. Carra,
Acting Associate Administrator for Rulemaking.

[FR Doc. 2011-6724 Filed 3-22-11; 8:45 am]

BILLING CODE 4910-59-P